DEPARTMENT OF LABOR

Occupational Safety and Health Administration

[Docket No. ICR-1218-0100(2001)]

Grantee Quarterly Progress Report; Extension of the Office of Management of Budget's Approval of Information-Collection (Paperwork) Requirements

AGENCY: Occupational Safety and Health Administration (OSHA), Labor.

ACTION: Notice of an opportunity for public comment.

SUMMARY: OSHA solicits public comment concerning its request to the Office of Management and Budget (OMB) for an extension of the information-collection requirements specified in its Grantee Quarterly Progress Report.

DATES: Submit written comments on or before April 30, 2001.

ADDRESSES: Submit written comments to the Docket Office, Docket No. ICR-1218-0100(2001), OSHA, U.S. Department of Labor, Room N-2625, 200 Constitution Avenue, N.W., Washington, DC 20210; telephone: (202) 693-2350. Commenters may transmit written comments of 10 pages or less by facsimile to: (202) 693-1948.

FOR FURTHER INFORMATION CONTACT: Cindy Bencheck, Division of Training and Educational Programs, OSHA Office of Training and Education, 1555 Times Drive, Des Plaines, Illinois 60018; telephone: (847) 297-4810; e-mail: cindy.bencheck@oti.osha.gov; or facsimile: (847) 297-4874. A copy of the Agency's Information-Collection Request (ICR) supporting the need for the information collections specified in the Grantee Quarterly Progress Report is available for inspection and copying in the Docket Office, or by requesting a copy from Todd Owen at (202) 693-2444. For electronic copies of this ICR, contact OSHA on the Internet at http://www.osha.gov/.

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (44 U.S.C. 3506(c)(2)(A)). This program ensures that information is in the desired format, reporting burden (time and costs) is minimal, collection instruments are clearly understood, and the Agency's estimate of information burden is correct.

Section 21 of the Occupational Safety and Health Act of 1970 (the “OSH Act”) (29 U.S.C. 670) authorizes OSHA to conduct directly, or through grants and contracts, education and training courses. These courses must ensure an adequate number of qualified personnel to fulfill the purposes of the Act, provide them with short-term training, inform them of the importance and proper use of safety and health equipment, and train employers and employees to recognize, avoid, and prevent unsafe and unhealthful working conditions.

Under Section 21, the Agency awards training grants to nonprofit organizations to provide part of the required training. Organizations that receive these grants must submit quarterly progress reports as required by the Department of Labor under 29 CFR 95.51. This regulation states that grant recipients must submit progress reports to the awarding agency at least annually, but no more than quarterly. The reports must contain a comparison of actual accomplishments with goals and objectives established for the reporting period and, if appropriate, the output of the program and specified cost information. Therefore, quarterly progress reports allow OSHA to determine if a recipient is using funds as specified in its grant application.

After receiving a quarterly progress report, the Agency compares the information provided in the report to the quarterly milestones proposed by the grant recipient in the workplan and budget that accompanied its grant application. This information includes: Identifier data (organization name and grant number); the location where the training occurred; the length of training (hours); the number of employees and employers attending training sessions provided by the organization during the quarter; a description of the training provided; and a compilation of program expenditures. Using this information, OSHA can determine if the grant recipient is providing the appropriate training (in terms of course length and content) to a specific number of employees and employers as described in the grant proposal, and is spending funds consistent with the proposed budget.

Requiring these reports on a quarterly bases enables the Agency to identify training and expenditure discrepancies in a timely fashion so that it can implement appropriate action. In addition, this information permits OSHA to assess a grant recipient's ability to meet projected milestones and expenditures; this ability serves as one of the criteria used by the Agency in determining whether or not to renew the recipient's training grant for subsequent years.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

The Agency proposes to extend OMB's approval of the collection-of-information (paperwork) requirements specified in the Grantee Quarterly Progress Report. OSHA will summarize the comments submitted in response to this notice, and will include this summary, along with the comments, in its request to OMB to extend the approval of these information-collection requirements.

Type of Review: Extension of currently approved information-collection requirements.

Title: Grantee Quarterly Progress Report.

OMB Number: 1218-0100.

Affected Public: Not-for-profit institutions.

Number of Respondents: 61.

Frequency: Quarterly.

Total Responses: 61.

Average Time Per Response: 12 hours.

Estimated Total Burden Hours: 2,928.

Estimated Cost (Operation and Maintenance): $68,808.

IV. Authority and Signature

R. Davis Layne, Acting Assistant Secretary of Labor for Occupational Safety and Health, directed the preparation of this notice. The authority for this notice is the Paperwork Reduction Act of 1995 (44 U.S.C. 3506) and Secretary of Labor's Order No 3-2000 (65 FR 50017).

Signed at Washington, DC, on February 23, 2001.
R. Davis Layne,
Acting Assistant Secretary of Labor.

[FR Doc. 01-4903 Filed 2-27-01; 8:45 am]

BILLING CODE 4510-26-P